DEPARTMENT OF AGRICULTURE

Animal and Plant Health Inspection Service

[Docket No. APHIS-2024-0048]

Notice of Request for Reinstatement of an Information Collection; National Animal Health Monitoring System; Poultry 2025 Small Enterprise Study

AGENCY: Animal and Plant Health Inspection Service, USDA.

ACTION: Reinstatement of an information collection; comment request.

SUMMARY: In accordance with the Paperwork Reduction Act of 1995, this notice announces the Animal and Plant Health Inspection Service's intention to request the reinstatement of an information collection associated with conducting the National Animal Health Monitoring System's small enterprise poultry study in 2025.

DATES: We will consider all comments that we receive on or before February 18, 2025.

ADDRESSES: You may submit comments by either of the following methods:

• Federal eRulemaking Portal: Go to www.regulations.gov. Enter APHIS-2024-0048 in the Search field. Select the Documents tab, then select the Comment button in the list of documents.

• Postal Mail/Commercial Delivery: Send your comment to Docket No., APHIS-2024-0048, Regulatory Analysis and Development, PPD, APHIS, Station 2C-10.16, 4700 River Road, Unit 25, Riverdale, MD 20737-1238.

Supporting documents and any comments we receive on this docket may be viewed at regulations.gov or in our reading room, which is located in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the Poultry 2025 Small Enterprise Study, contact Ms. Nia Washington-Plaskett, Program Analyst, Center for Epidemiology and Animal Health, VS, APHIS, 2150 Centre Ave., Bldg. B, Fort Collins, CO 80524; phone: (866) 907-8190; email: nia.washington-plaskett@usda.gov or vs.sp.ceah.pci@usda.gov. For more detailed information on the information collection process, contact Mr. Joseph Moxey, APHIS' Paperwork Reduction Act Coordinator, at (301) 851-2533, or email: joseph.moxey@usda.gov.

SUPPLEMENTARY INFORMATION:

Title: National Animal Health Monitoring System; Poultry 2025 Small Enterprise Study.

OMB Control Number: 0579-0260.

Type of Request: Reinstatement of a previously approved information collection.

Abstract: Under the Animal Health Protection Act (7 U.S.C. 8301 et seq.), the Secretary of Agriculture is authorized to protect the health of the livestock, poultry, and aquaculture populations in the United States by preventing the introduction and interstate spread of serious diseases and pests of livestock, and for eradicating such diseases from the United States when feasible. This authority has been delegated to the Animal and Plant Health Inspection Service (APHIS).

In connection with this mission, APHIS operates the National Animal Health Monitoring System (NAHMS), which collects on a national basis statistically valid and scientifically sound data on the prevalence and economic importance of livestock, poultry, and aquaculture disease risk factors.

NAHMS' studies have evolved into a collaborative industry and government initiative to help determine the most effective means of preventing and controlling diseases of poultry. NAHMS is the only agency responsible for collecting data on poultry health. Participation in any NAHMS study is voluntary, and all data are confidential.

NAHMS plans to conduct the Poultry 2025 Small Enterprise Study as part of an ongoing series of NAHMS studies on the U.S. poultry population. This study will support the following objectives: (1) Establish baselines for animal health and management practices on U.S. poultry operations with 1,000 to 74,999 table egg layers inventory, 1,000 to 99,999 broilers sold or moved annually, and 1,000 to 29,999 meat turkeys sold or moved annually; (2) describe management and biosecurity practices of small enterprise operations with a focus on operations in areas of high poultry density and, given the outcome of the sampling, operations in close proximity (less than 1-mile radius) to larger commercial operations; and (3) describe producer preparedness for animal health emergencies, including highly pathogenic avian influenza.

The study will consist of one phase in collaboration with the National Agricultural Statistics Service (NASS). A survey will be administered to small enterprise chicken table egg layers, broilers, and meat turkey operations in all States, with a focus on smaller poultry operations in close proximity to large commercial operations. The survey will be administered with three options for completion, which are mail, web (internet), or telephone call by NASS enumerators.

The information collected through the study will be analyzed and organized into a descriptive report. Several information sheets will be derived from these reports and disseminated by NAHMS to producers, stakeholders, academia, veterinarians, and other interested parties. The collected data will be used to: (1) Establish national and regional production measures for producer, veterinary, and industry references; (2) predict or detect national and regional trends in disease emergence and movement; (3) address emerging issues; (4) aid in disease preparedness; (5) evaluate biosecurity practices of small enterprise producers and determine what sort of informational resources may be most useful for this population; (6) provide estimates of both outcome (disease or other parameters) and exposure (risks and components) variables that can be used in analytic studies in the future by NAHMS; (7) provide input into the design of surveillance systems for specific diseases; and (8) provide parameters for animal disease spread models.

We are asking the Office of Management and Budget (OMB) to approve our use of these information collection activities for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 0.35 hours per response.

Respondents: Small enterprise chicken table-egg layer, chicken broiler, and turkey operations. This includes chicken table-egg layer operations with inventories of 1,000 to 74,999 head, chicken broiler operations that sold or moved 1,000 to 99,999 head in the last year, and turkey operations that sold or moved 1,000 to 29,999 head in the last year.

Estimated annual number of respondents: 5,525.

Estimated annual number of responses per respondent: 1.

Estimated annual number of responses: 5,525.

Estimated total annual burden on respondents: 1,947 hours. (Due to averaging, the total annual burden hours may not equal the product of the annual number of responses multiplied by the reporting burden per response.)

All responses to this notice will be summarized and included in the request for OMB approval. All comments will also become a matter of public record.

Done in Washington, DC, this 3rd day of December 2024.
Michael Watson,
Administrator, Animal and Plant Health Inspection Service.

[FR Doc. 2024-30251 Filed 12-18-24; 8:45 am]

BILLING CODE 3410-34-P